DEPARTMENT OF DEFENSE

Office of the Secretary

Defense Health Board (DHB) Meeting

AGENCY: Department of Defense.

ACTION: Notice.

SUMMARY: Pursuant to the Federal Advisory Committee Act of 1972 (5 U.S.C., Appendix as amended), the Sunshine in the Government Act of 1976 (5 U.S.C. & 552b, as amended), and 41 CFR & 102-3.150, and in accordance with section 10(a)(2) of Public Law, the following meeting is announced:

Name of Committee: Traumatic Brain Injury Family Caregiver Panel, a subcommittee of the Defense Health Board

DATES: June 17 and 18, 2008

June 17, 2008

8:15 a.m.-10:15 a.m. (Open session)

10:45 a.m.-12 p.m. (Open session)

12:45 p.m.-4:45 p.m. (Open session)

6 p.m.-8 p.m. (Town Hall Meeting—Open session)

June 18, 2008

8:15 a.m.-11:45 a.m. (Open session)

11:45 a.m.-2:30 p.m. (Open session)

ADDRESSES: The Hilton, 8727 Colesville Road, Silver Spring, MD 20910.

FOR FURTHER INFORMATION CONTACT: Colonel Roger L. Gibson, Executive Secretary, Defense Health Board, Five Skyline Place, 5111 Leesburg Pike, Room 810, Falls Church, Virginia 22041-3206; Phone: (703) 681-1712; Fax: (703) 681-3321, roger.gibson@ha.osd.mil. Written statements may be mailed to the above address, e-mailed to dhb@ha.osd.mil or faxed to (703) 681-3321.

SUPPLEMENTARY INFORMATION: Purpose of the Meeting: The Traumatic Brain Injury Family Caregiver Panel is a Congressionally-directed subcommittee of the Defense Health Board whose mission is to develop training curricula to be used by family members of Service members of the Armed Forces. The purpose of the meeting is to deliberate and vote on matters related to the development of the Traumatic Brain Injury Family Caregiver curriculum.

The Defense Health Board is a Federal Advisory Committee and a continuing independent scientific advisory body to the Secretary of Defense via the Assistant Secretary of Defense for Health Affairs and the Surgeons General of the Military Departments.

Agenda: The panel will formulate and approve a definition for the term Family Caregiver to be used throughout the curriculum. The panel will review and approve an outline for the curriculum. The panel will host a town hall meeting to seek public input for the content of the curriculum. The approved outline, will be used by a team of health education writers to produce the curriculum.

Pursuant to 5 U.S.C. & 552b, as amended, and 41 CFR & 102-3.140 through 102-3.615 and subject availability of space, the Traumatic Brain Injury Family Caregiver Panel meeting from 8:15 a.m. to 8 p.m. on June 17, 2008 and from 8:15 a.m. to 2:30 p.m. on June 18, 2008 is open to the public. Any member of the public wishing to provide input to the Traumatic Brain Injury Family Caregiver Panel should submit a written statement in accordance with 41 CFR & 102-3.140(C) and section 10(a)(3) of the Federal Advisory Committee Act, and the procedures described in this notice. Written statement should be no longer than two type-written pages and must address the following detail: The issue, discussion, and a recommended course of action. Supporting documentation may also be included as needed to establish the appropriate historical context and to provide any necessary background information.

Individuals desiring to submit a written statement may do so through the Panel's Designated Federal Officer at the address detailed above at any point. However, if the written statement is not received at least 10 calendar days prior to the meeting, which is subject to this notice, then it may not be provided to or considered by the Traumatic Brain Injury Family Caregiver Panel until the next open meeting.

The Designated Federal Officer will review all timely submissions with the Traumatic Brain Injury Family Caregiver Panel Chairperson, and ensure they are provided to members of the Traumatic Brain Injury Family Caregiver Panel before the meeting that is subject to this notice. After reviewing the written comments, the Chairperson and the Designated Federal Officer may choose to invite the submitter of the comments to orally present their issue during an open portion of this meeting or a future meeting. The Designated Federal Officer, in consultation with the Traumatic Brain Injury Family Caregiver Panel Chairperson, may if desired, allot a specific amount of time for members of the public to present their issues for review and discussion by the Traumatic Brain Brain Injury Family Caregiver Panel.

Dated: May 28, 2008.
Patricia L. Toppings,
OSD Federal Register Liaison Officer, Department of Defense.

[FR Doc. E8-12471 Filed 6-3-08; 8:45 am]

BILLING CODE 5001-06-P